DEPARTMENT OF LABOR

Bureau of Labor Statistics

Data Users Advisory Committee; Notice of Meeting and Agenda

The Bureau of Labor Statistics Data Users Advisory Committee will meet on Tuesday June 9, 2015. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration

9:00 a.m. Commissioner's welcome and review of agency developments

9:45 a.m. Ethics Briefing

10:15 a.m. New Data Products in OEUS

11:15 a.m. Occupational Requirements Survey status and outputs

1:15 p.m. Chart packages with news releases

1:45 p.m. K-12 pages

2:30 p.m. New inputs to PPI industry indexes

3:45 p.m. Report on Stakeholders Surveys

4:45 p.m. Future topics and meeting wrap-up

The meeting is open to the public. Any questions concerning the meeting should be directed to Kathy Mele, Data Users Advisory Committee, on 202.691.6102. Individuals who require special accommodations should contact Ms. Mele at least two days prior to the meeting date.

Signed at Washington, DC, this 8th day of April 2015.
Kimberly D. Hill,
Chief, Division of Management Systems, Bureau of Labor Statistics.

[FR Doc. 2015-08378 Filed 4-10-15; 8:45 am]

BILLING CODE 4510-24-P